DEPARTMENT OF ENERGY

Federal Energy Regulatory Commission

Combined Notice of Filings #1

Take notice that the Commission received the following exempt wholesale generator filings:

Docket Numbers: EG20-68-000.

Applicants: Oberon Solar IB, LLC.

Description: Notice of Self-Certification of Exempt Wholesale Generator Status of Oberon Solar IB, LLC.

Filed Date: 1/22/20.

Accession Number: 20200122-5161.

Comments Due: 5 p.m. ET 2/12/20.

Docket Numbers: EG20-69-000.

Applicants: Prospero Energy Project, LLC.

Description: Notice of Self-Certification of Exempt Wholesale Generator Status of Prospero Energy Project, LLC.

Filed Date: 1/24/20.

Accession Number: 20200124-5027.

Comments Due: 5 p.m. ET 2/14/20.

Take notice that the Commission received the following electric rate filings:

Docket Numbers: ER12-1383-002.

Applicants: Diamond State Generation Partners, LLC.

Description: Notification of Non-Material Change in Status of Diamond State Generation Partners, LLC.

Filed Date: 1/22/20.

Accession Number: 20200122-5162.

Comments Due: 5 p.m. ET 2/12/20.

Docket Numbers: ER16-1969-006; EL13-88-002.

Applicants: Midcontinent Independent System Operator, Inc.

Description: Compliance Filing of Midcontinent Independent System Operator, Inc.

Filed Date: 1/23/20.

Accession Number: 20200123-5152.

Comments Due: 5 p.m. ET 2/13/20.

Docket Numbers: ER19-2717-000.

Applicants: Madison ESS, LLC.

Description: Report Filing: Madison ESS, LLC Refund Report to be effective N/A.

Filed Date: 1/24/20.

Accession Number: 20200124-5129.

Comments Due: 5 p.m. ET 2/14/20.

Docket Numbers: ER20-289-001.

Applicants: AEP Ohio Transmission Company, Inc., Ohio Power Company, PJM Interconnection, L.L.C.

Description: Compliance filing: AEP submits compliance per Commission's 12/30/2019 order re: ILDSA SA No. 1336 to be effective 12/31/2019.

Filed Date: 1/23/20.

Accession Number: 20200123-5075.

Comments Due: 5 p.m. ET 2/13/20.

Docket Numbers: ER20-511-001.

Applicants: Wilderness Line Holdings, LLC.

Description: Tariff Amendment: Request to Hold Proceedings in Abeyance—OATT to be effective 12/31/9998.

Filed Date: 1/23/20.

Accession Number: 20200123-5103.

Comments Due: 5 p.m. ET 2/13/20.

Docket Numbers: ER20-529-001.

Applicants: Wilderness Line Holdings, LLC.

Description: Tariff Amendment: Request to Hold Proceedings in Abeyance—LGIA & TSA to be effective 12/31/9998.

Filed Date: 1/23/20.

Accession Number: 20200123-5104.

Comments Due: 5 p.m. ET 2/13/20.

Docket Numbers: ER20-868-000.

Applicants: Lake Benton Power Partners II, LLC.

Description: Tariff Cancellation: Lake Benton Power Partners II, LLC Notice of Cancellation of MBR Tariff to be effective 1/24/2020.

Filed Date: 1/23/20.

Accession Number: 20200123-5107.

Comments Due: 5 p.m. ET 2/13/20.

Docket Numbers: ER20-870-000.

Applicants: Panda Liberty LLC.

Description: Compliance filing: compliance 2020 information to be effective N/A.

Filed Date: 1/24/20.

Accession Number: 20200124-5150.

Comments Due: 5 p.m. ET 2/14/20.

Docket Numbers: ER20-871-000.

Applicants: Panda Patriot LLC.

Description: Compliance filing: compliance 2020 information to be effective N/A.

Filed Date: 1/24/20.

Accession Number: 20200124-5153.

Comments Due: 5 p.m. ET 2/14/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2020.
Nathaniel J. Davis, Sr.,
Deputy Secretary.

[FR Doc. 2020-01678 Filed 1-29-20; 8:45 am]

BILLING CODE 6717-01-P